DEPARTMENT OF DEFENSE

Department of the Air Force

[Docket ID USAF-2011-0024]

Privacy Act of 1974; System of Records

AGENCY: Department of the Air Force, Department of Defense (DoD).

ACTION: Notice to delete a system of records.

SUMMARY: The Department of the Air Force is deleting a systems of records notice in its existing inventory of record systems subject to the Privacy Act of 1974 (5 U.S.C. 552a), as amended.

DATES: This proposed action will be effective without further notice on December 23, 2011 unless comments are received which result in a contrary determination.

ADDRESSES: Send comments, identified by docket number and title, by any of the following methods:

• Federal Rulemaking Portal: http://www.regulations.gov. Follow the instructions for submitting comments.

• Mail: Federal Docket Management System Office, 4800 Mark Center Drive, East Tower, 2nd floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, Attn: SAF/XCPPI, 1800 Air Force Pentagon, Washington DC 20330-1800, or by phone at (202) 404-6575.

SUPPLEMENTARY INFORMATION: The Department of the Air Force systems of records notices subject to the Privacy Act of 1974, (5 U.S.C. 552a), as amended, have been published in the Federal Register and are available from the address in FOR FURTHER INFORMATION CONTACT.

The Department of the Air Force proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: November 17, 2011.
Aaron Siegel,
Alternate OSD Federal Register Liaison Officer, Department of Defense.

Deletion:

F051 AFJA A

System name:

Freedom of Information Act Appeal Records (December 12, 2008, 73 FR 75688).

Reason: Based upon a recent review of F051 AFJA A, The Freedom of Information Act Appeal Records, by the Department of the Air Force, it has been determined that all information contained in F051 AFJA A has been consolidated into F033 AF A, Information Requests-Freedom of Information Act (May 19, 2011, 76 FR 28962), and can therefore be deleted.

[FR Doc. 2011-30144 Filed 11-22-11; 8:45 am]

BILLING CODE 5001-06-P